COUNCIL OF THE INSPECTORS GENERAL ON INTEGRITY AND EFFICIENCY

Privacy Act of 1974; System of Records

AGENCY: Council of the Inspectors General on Integrity and Efficiency (CIGIE).

ACTION: Notice of a modified system of records.

SUMMARY: CIGIE is issuing public notice of its intent to amend a system of records that it maintains subject to the Privacy Act of 1974. CIGIE-4, entitled “Integrity Committee Management System (ICMS),” is being amended to reflect eight new routine uses for information contained in the system, to make various technical corrections and/or clarifications, and to reorganize the structure to conform to CIGIE's more recently published notices.

DATES: This proposal will be effective without further notice on October 12, 2022 unless comments are received that would result in a contrary determination.

ADDRESSES: Submit comments identified by “CIGIE-4” by any of the following methods:

1. Mail: Council of the Inspectors General on Integrity and Efficiency, 1717 H Street NW, Suite 825, Washington, DC 20006. ATTN: Atticus Reaser/CIGIE-4, Notice of a Modified System of Records.

2. Email: comments@cigie.gov.

FOR FURTHER INFORMATION CONTACT: Atticus Reaser, General Counsel, Council of the Inspectors General on Integrity and Efficiency, (202) 292-2600 or comments@cigie.gov.

SUPPLEMENTARY INFORMATION: CIGIE is amending a system of records that it maintains subject to the Privacy Act of 1974 (5 U.S.C. 552a), as amended. Specifically, CIGIE-4 entitled “Integrity Committee Management System (ICMS)” is being amended to reflect eight new routines uses: (i) To the Office of Personnel Management (OPM) in accordance with OPM's responsibility for evaluation and oversight of Federal personnel management; (ii) To Federal, state, territorial, local, tribal, foreign, or international licensing agencies or associations which require information concerning the suitability or eligibility of an individual for a license or permit; (iii) To a former IC member, CIGIE employee, or detailee for personnel-related or other official purposes where CIGIE requires information and/or consultation assistance from the former IC member, CIGIE employee, or detailee regarding a matter within that person's former area of responsibility; (iv) To appropriate agencies, entities, and persons, to the extent necessary to respond to or refer correspondence received by CIGIE; (v) To the news media and/or the public when (1) a matter pending or that was pending before the IC has become public knowledge, (2) the IC Chairperson determines that disclosure is necessary to preserve confidence in the integrity of the IC process or is necessary to demonstrate the accountability of CIGIE members, officers, employees, or individuals covered by this system, or (3) the IC Chairperson determines that there exists a legitimate public interest (e.g., to demonstrate that the law is being enforced, or to deter the commission of misconduct within the IC's oversight authority), except to the extent that the IC Chairperson determines in any of these situations that disclosure of specific information in the context of a particular case would constitute an unwarranted invasion of personal privacy; (vi) To complainants, victims, and/or witnesses to the extent necessary to provide such persons with information and explanations concerning the results of the investigation or other inquiry arising from the matters about which they complained and/or with respect to which they were a victim or witness; (vii) To an individual who has been interviewed or contacted by CIGIE pursuant to an investigation or other inquiry, to the extent that CIGIE may provide copies of that individual's statements, testimony, or records produced by such individual; and (viii) To subjects and/or respondents to the extent necessary to provide such persons with information and explanations concerning the results of an investigation or other inquiry arising from matters about which they were a subject and/or respondent.

CIGIE is also making several technical corrections and/or clarifications throughout the system of records. Notably, however, there are no substantive changes being made to the exemptions promulgated for the system. Accordingly, there are no changes made to CIGIE's published rule, entitled “Privacy Act Regulations,” establishing its procedures relating to access, maintenance, disclosure, and amendment of records which are in a CIGIE system of records per the Privacy Act, promulgated at 5 CFR part 9801 (https://www.ecfr.gov/cgi-bin/text-idx?SID=c3344b4e456f682fe915c0e982f8ce94&mc=true&tpl=/ecfrbrowse/Title05/5cfr9801_main_02.tpl). In accordance with 5 U.S.C. 552a(r), CIGIE has provided a report of this amended system of records to the Office of Management and Budget and to Congress. The amended system of records reads as follows:

SYSTEM NAME AND NUMBER:

Integrity Committee Management System (ICMS)—CIGIE-4.

SECURITY CLASSIFICATION:

The vast majority of the information in the system is Controlled Unclassified Information. However, there is some classified information as well.

SYSTEM LOCATION(S):

The principal location of paper records contained within the ICMS is the headquarters of the Council of the Inspectors General on Integrity and Efficiency (CIGIE), 1717 H Street NW, Suite 825, Washington, DC 20006. Records maintained in electronic form are principally located in contractor-hosted data centers in the United States. Limited records within the system, including but not necessarily limited to those containing classified information, are located at the Federal Bureau of Investigation (FBI) at the system location specified in the current System of Record Notice associated with The FBI Central Records System, Justice/FBI-002. Contact the System Manager identified below for additional information.

SYSTEM MANAGER(S):

Office of the General Counsel, Council of the Inspectors General on Integrity and Efficiency, 1717 H Street NW, Suite 825, Washington, DC 20006, (202)292-2600, Integrity-WG@cigie.gov.

AUTHORITY FOR MAINTENANCE OF THE SYSTEM:

Section 11 of the Inspector General Act of 1978, as amended, 5 U.S.C. app. (IG Act); 5 U.S.C. 301; 44 U.S.C. 3101.

PURPOSE(S) OF THE SYSTEM:

CIGIE maintains this system of records in order to carry out its responsibilities pursuant to the IG Act. Pursuant to section 11(d)(1) of the IG Act, CIGIE is statutorily directed to establish the Integrity Committee (IC), which shall receive, review, refer for investigation, or otherwise act on allegations of wrongdoing that are made against Inspectors General and certain staff members of various Offices of Inspector General (OIGs), as well as the Special Counsel and Deputy Special Counsel, and make appropriate recommendations regarding confirmed or verified allegations. Furthermore, pursuant to section 11(d)(13) of the IG Act, the Chairperson of CIGIE is statutorily obligated to maintain the records of the IC. Accordingly, the records in this system are used in the course of responding to and reviewing complaints received by the IC, investigating individuals suspected of wrongdoing falling within the authority of the IC, referring matters to the Department of Justice (DOJ) or the Office of Special Counsel (OSC), as appropriate, and making recommendations to the President or head of the relevant agency, as appropriate.

CATEGORIES OF INDIVIDUALS COVERED BY THE SYSTEM:

In connection with its investigative and other duties, the IC maintains records on the following categories of individuals:

A. Individuals who relate in any manner to official IC matters, including, but not limited to, individuals who are or have been the subject and/or respondent, complainant, victim, witness, or close relative or associate of a subject, complainant, victim, or witness in a complaint received by the IC. Such individuals include, but are not necessarily limited to, Inspectors General, the Special Counsel, the Deputy Special Counsel, those staff members of the OIGs specified in section 11(d)(4)(B) of the IG Act, and others who are subject to IC oversight authority, as well as other individuals identified in such complaints.

B. Individuals identified in reports of investigation and other materials received from the DOJ or the OSC pursuant to section 11(d)(7)(E) of the IG Act or received from other entities that submit materials to the IC, such as Inspectors General who conduct investigations on behalf of the IC.

C. Individuals identified in records, including correspondence, that are related to the administration of the IC.

CATEGORIES OF RECORDS IN THE SYSTEM:

Information relating to complaints and/or investigations, including:

A. Letters, memoranda, and other documents regarding or arising out of complaints, alleged criminal, civil, or administrative misconduct, or other related information.

B. Case files, which include reports of investigations, exhibits, transcripts and/or recordings of interviews, statements, affidavits, and other records obtained during investigations or other inquiries.

C. Administrative materials, including minutes, reports, case-tracking logs, and Congressional and other correspondence.

D. Records relating to referrals and recommendations to and from external entities, including, but not limited to the DOJ, the OSC, OIGs, and others.

RECORD SOURCE CATEGORIES:

The subjects of investigations and inquiries; individuals and entities with which the subjects of investigations and inquiries are associated; Federal, state, local, and foreign law enforcement and non-law enforcement agencies and entities; private citizens; witnesses; complainants; and public and/or commercially available source materials.

ROUTINE USES OF RECORDS MAINTAINED IN THE SYSTEM, INCLUDING CATEGORIES OF USERS AND PURPOSES OF SUCH USES:

In addition to those disclosures generally permitted under 5 U.S.C. 552a(b), all or portions of the records or information contained in this system may specifically be disclosed outside of CIGIE as a routine use pursuant to 5 U.S.C. 552a(b)(3) as follows:

A. To a Member of Congress in response to an inquiry from that Member made at the request of the individual. In such cases, however, the Member's right to a record is no greater than that of the individual.

B. If the disclosure of certain records to the Department of Justice (DOJ) is relevant and necessary to litigation, CIGIE may disclose those records to the DOJ. CIGIE may make such a disclosure if one of the following parties is involved in the litigation or has an interest in the litigation:

1. CIGIE or any component thereof; or

2. Any employee or former employee of CIGIE in his or her official capacity; or

3. Any employee or former employee of CIGIE in his or her individual capacity when the DOJ has agreed to represent the employee; or

4. The United States, if CIGIE determines that litigation is likely to affect CIGIE or any of its components.

C. If disclosure of certain records to a court, adjudicative body before which CIGIE is authorized to appear, individual or entity designated by CIGIE or otherwise empowered to resolve disputes, counsel or other representative, party, or potential witness is relevant and necessary to litigation, CIGIE may disclose those records to the court, adjudicative body, individual or entity, counsel or other representative, party, or potential witness. CIGIE may make such a disclosure if one of the following parties is involved in the litigation or has an interest in the litigation:

1. CIGIE or any component thereof; or

2. Any employee or former employee of CIGIE in his or her official capacity; or

3. Any employee or former employee of CIGIE in his or her individual capacity when the DOJ has agreed to represent the employee; or

4. The United States, if CIGIE determines that litigation is likely to affect CIGIE or any of its components.

D. To the appropriate Federal, state, local, tribal, or foreign agency responsible for investigating, prosecuting, enforcing, or implementing a statute, rule, regulation, or order, if the information is relevant to a violation or potential violation of civil or criminal law or regulation within the jurisdiction of the receiving entity, including, but not limited to, the DOJ or the OSC pursuant to section 11(d)(5) of the IG Act.

E. To officials and employees of any Federal, state, local, or tribal agency or CIGIE member entity to the extent the record contains information that is relevant to that entity's decision concerning the hiring, appointment, nomination, or retention of an employee; issuance of an award; issuance of a security clearance; execution of a security or suitability investigation; or classification of a job.

F. To the National Archives and Records Administration (NARA) pursuant to records management inspections being conducted under the authority of 44 U.S.C. 2904 and 2906.

G. To contractors, grantees, consultants, volunteers, or other individuals performing or working on a contract, interagency agreement, service, grant, cooperative agreement, job, or other activity for CIGIE (including, but not limited to, representatives of the DOJ and the OSC reviewing complaints made to the IC pursuant to section 11(d)(5) of the IG Act, the Chief of the Public Integrity Section of the Criminal Division of the DOJ, or their designee, who serves as legal advisor to the IC, and officials at the FBI involved with the maintenance of IC-related records) and who have a need to access the information in the performance of their duties or activities for CIGIE.

H. To appropriate agencies, entities, and persons when: CIGIE suspects or has confirmed that there has been a breach of the system of records; CIGIE has determined that as a result of the suspected or confirmed breach there is a risk of harm to individuals, CIGIE (including its information systems, programs, and operations), the Federal Government, or national security; and the disclosure made to such agencies, entities, and persons is reasonably necessary to assist in connection with CIGIE's efforts to respond to the suspected or confirmed breach or to prevent, minimize, or remedy such harm.

I. To another Federal agency or Federal entity, when: CIGIE determines that information from this system of records is reasonably necessary to assist the recipient agency or entity in responding to a suspected or confirmed breach; or preventing, minimizing, or remedying the risk of harm to individuals, the recipient agency or entity (including its information systems, programs, and operations), the Federal Government, or national security, resulting from a suspected or confirmed breach.

J. To Federal agencies and independent certified public accounting firms that have a need for the information in order to audit the financial statements of CIGIE.

K. To an organization or an individual in the public or private sector if there is reason to believe the recipient is or could become the target of a particular criminal activity or conspiracy, or to the extent the information is relevant to the protection of life or property.

L. To officials of CIGIE and the Integrity Committee, as well as CIGIE and Integrity Committee members and their staff members, who have need of the information in the performance of their duties.

M. To any individual or entity when necessary to elicit information that will assist an IC investigation.

N. To the President, the head of a designated Federal entity, or other appointing official(s), as appropriate, for resolution after assessment and final disposition of reports by the IC to the extent required to comply with section 11(d) of the IG Act or as otherwise required by law.

O. To Members of Congress and appropriate congressional committees of jurisdiction to the extent required to comply with section 11(d) of the IG Act or as otherwise required by law.

P. To the Office of Personnel Management (OPM) in accordance with OPM's responsibility for evaluation and oversight of Federal personnel management.

Q. To Federal, state, territorial, local, tribal, foreign, or international licensing agencies or associations which require information concerning the suitability or eligibility of an individual for a license or permit.

R. To a former IC member, CIGIE employee, or detailee for personnel-related or other official purposes where CIGIE requires information and/or consultation assistance from the former IC member, CIGIE employee, or detailee regarding a matter within that person's former area of responsibility.

S. To appropriate agencies, entities, and persons, to the extent necessary to respond to or refer correspondence received by CIGIE.

T. To the news media and/or the public when (1) a matter pending or that was pending before the IC has become public knowledge, (2) the IC Chairperson determines that disclosure is necessary to preserve confidence in the integrity of the IC process or is necessary to demonstrate the accountability of CIGIE members, officers, employees, or individuals covered by this system, or (3) the IC Chairperson determines that there exists a legitimate public interest (e.g., to demonstrate that the law is being enforced, or to deter the commission of misconduct within the IC's oversight authority), except to the extent that the IC Chairperson determines in any of these situations that disclosure of specific information in the context of a particular case would constitute an unwarranted invasion of personal privacy.

U. To complainants, victims, and/or witnesses to the extent necessary to provide such persons with information and explanations concerning the results of the investigation or other inquiry arising from the matters about which they complained and/or with respect to which they were a victim or witness.

V. To an individual who has submitted information to CIGIE in connection with an IC investigation or other matter, in writing or otherwise, to the extent that CIGIE determines that providing copies of the written materials submitted by the individual or transcript extracts of the individual's own statements is appropriate. Such disclosure does not include release of transcripts or extracts thereof reflecting statements made by others, including but not limited to questions asked or statements made by the investigator or other persons in an interview.

W. To subjects and/or respondents to the extent necessary to provide such persons with information and explanations concerning the results of an investigation or other inquiry arising from matters about which they were a subject and/or respondent.

POLICIES AND PRACTICES FOR STORAGE OF RECORDS:

Information within this system of records is maintained in paper or electronic form.

POLICIES AND PRACTICES FOR RETRIEVAL OF RECORDS:

These records are retrieved by the name or other programmatic identifier assigned to the individuals about whom the records are maintained.

POLICIES AND PRACTICES FOR RETENTION AND DISPOSAL OF RECORDS:

The information is retained and disposed of in accordance with the General Records Schedule and/or the CIGIE records schedule applicable to the record and/or otherwise required by the Federal Records Act and implementing regulations.

ADMINISTRATIVE, TECHNICAL AND PHYSICAL SAFEGUARDS:

Paper records are located in locked file storage areas or in specified areas to which only authorized personnel have access. Electronic records are protected from unauthorized access through password identification procedures, limited access, firewalls, and other system-based protection methods.

RECORD ACCESS PROCEDURES:

Part of this system is exempt from notification and access requirements pursuant to 5 U.S.C. 552a(j)(2), (k)(1), and (k)(2). To the extent that this system is not subject to exemption, it is subject to notification and access requirements. Individuals seeking notification and access to any record contained in this system of records, or seeking to contest its content, may inquire in writing to the System Manager listed above. CIGIE has published a rule, entitled “Privacy Act Regulations,” to establish its procedures relating to access, maintenance, disclosure, and amendment of records which are in a CIGIE system of records per the Privacy Act, promulgated at 5 CFR part 9801 (https://www.ecfr.gov/cgi-bin/text-idx?SID=c3344b4e456f682fe915c0e982f8ce94&mc=true&tpl=/ecfrbrowse/Title05/5cfr9801_main_02.tpl).

CONTESTING RECORD PROCEDURES:

See “Records Access Procedures” above.

NOTIFICATION PROCEDURES:

See “Records Access Procedures” above.

EXEMPTIONS PROMULGATED FOR THE SYSTEM:

CIGIE has exempted this system of records from the following provisions of the Privacy Act pursuant to the general authority in 5 U.S.C. 552a(j)(2): 5 U.S.C. 552a(c)(3) and (c)(4); (d); (e)(1), (e)(2), (e)(3), (e)(4)(G)-(H), (e)(5), and (e)(8); (f); and (g). Additionally, CIGIE has exempted this system from the following provisions of the Privacy Act pursuant to the general authority in 5 U.S.C. 552a(k)(1) and (k)(2): 5 U.S.C. 552a(c)(3); (d); (e)(1) and (e)(4)(G)-(H); and (f). See 5 CFR part 9801.

HISTORY:

82 FR 51404 (November 6, 2017).

Dated: September 7, 2022.
Allison C. Lerner,
Chairperson of the Council of the Inspectors General on Integrity and Efficiency.

[FR Doc. 2022-19640 Filed 9-9-22; 8:45 am]

BILLING CODE P